DEPARTMENT OF COMMERCE

International Trade Administration

Environmental Technologies Trade Advisory Committee (ETTAC), Request for Nominations from U.S. State Officials

AGENCY: International Trade Administration, Commerce.

ACTION: Solicitation of nominations from U.S. state officials for membership to the Environmental Technologies Trade Advisory Committee (ETTAC).

SUMMARY: This notice sets forth a request for nominations from U.S. state officials, or representatives from associations that represent U.S. states, to serve on the Environmental Technologies Trade Advisory Committee (ETTAC). One person will be appointed under this notice increasing the total number of members to 36.

The ETTAC was established pursuant to provisions under Title IV of the Jobs Through Trade Expansion Act, 22. U.S.C. 2151, and under the Federal Advisory Committee Act, 5 U.S.C. App.2. ETTAC was first chartered on May 31, 1994. ETTAC serves as an advisory body to the Environmental Trade Working Group of the Trade Promotion Coordinating Committee (TPCC), reporting directly to the Secretary of Commerce in his/her capacity as Chairman of the TPCC. ETTAC advises on the development and administration of policies and programs to expand U.S. exports of environmental technologies, goods, and services.

DATES: Nominations from officials representing U.S. states for membership must be received on or before December 31, 2012.

ADDRESSES: Please send nominations by post, email, or fax to the attention of Todd DeLelle, Office of Energy & Environmental Industries, International Trade Administration, U.S. Department of Commerce, 1401 Constitution Avenue NW., Room 4053, Washington, DC 20230; phone 202-482-4877; email todd.delelle@trade.gov; fax 202-482-5665. Electronic responses should be submitted in Microsoft Word format.

Nominations: The Secretary of Commerce invites nominations to ETTAC of officials who will represent U.S. states interested in the trade of environmental goods and services.

Members of the ETTAC must have experience in the exportation of environmental goods and services, including:

(1) Air pollution control and monitoring technologies ;

(2) Analytic devices and services;

(3) Environmental engineering and consulting services;

(4) Financial services relevant to the environmental sector;

(5) Process and pollution prevention technologies;

(7) Solid and hazardous waste management technologies;

(8) and/or water and wastewater treatment technologies.

Nominees will be evaluated based upon their ability to carry out the goals of the ETTAC's enabling legislation. ETTAC's current Charter is available on the internet at http://www.environment.ita.doc.gov under the tab: Advisory Committee.

Nominees must be U.S. citizens. All appointments are made without regard to political affiliation. Members shall serve at the pleasure of the Secretary from the date of appointment to the Committee to the date on which the Committee's charter terminates (normally two years).

If you are interested in being nominated to become a member of ETTAC, please provide the following information (2 pages maximum):

(1) Name

(2) Title

(3) Work phone; fax; and email address

(4) Organization name and address, including Web site address

(5) Short biography of nominee, including credentials and proof of U.S. citizenship (copy of birth certificate and/or U.S. passport) and a list of citizenships of foreign countries

(6) Brief description of the organization and its business activities, including

(7) Company size (number of employees and annual sales)

(8) Exporting experience.

Please do not send company or trade association brochures or any other information.

FOR FURTHER INFORMATION CONTACT: Mr. Todd DeLelle, Office of Energy & Environmental Industries (OEEI), International Trade Administration, Room 4053, 1401 Constitution Avenue NW., Washington, DC 20230. (Phone: 202-482-4877; Fax: 202-482-5665; email: todd.delelle@trade.gov).

Dated: December 19, 2012.
Edward A. O'Malley,
Director, Office of Energy and Environmental Industries.

[FR Doc. 2012-30969 Filed 12-21-12; 4:15 pm]

BILLING CODE 3510-DR-P